Proclamation 7394 of January 17, 2001

Establishment of the Kasha-Katuwe Tent Rocks National Monument

By the President of the United States of America

A Proclamation

Located on the Pajarito Plateau in north central New Mexico, the Kasha-Katuwe Tent Rocks National Monument is a remarkable outdoor laboratory, offering an opportunity to observe, study, and experience the geologic processes that shape natural landscapes, as well as other cultural and biological objects of interest. The area is rich in pumice, ash, and tuff deposits, the light-colored, cone-shaped tent rock formations that are the products of explosive volcanic eruptions that occurred between 6 and 7 million years ago. Small canyons lead inward from cliff faces, and over time, wind and water have scooped openings of all shapes and sizes in the rocks and have contoured the ends of the ravines and canyons into smooth semicircles. In these canyons, erosion-resistant caprocks protect the softer tents below. While the formations are uniform in shape, they vary in height from a few feet to 90 feet, and the layering of volcanic material intersperses bands of grey with beige colored rock.

Amid the formations and in contrast to the muted colors of the rocks of the monument, vibrant green leaves and red bark of manzanita, a shrubby species from the Sierra Madre of Mexico, cling to the cracks and crevices of the cliff faces. Red-tailed hawks, kestrels, violet-green swallows, and Western bluebirds soar above the canyons and use the pinion and ponderosa covered terrain near the cliffs.

The complex landscape and spectacular geologic scenery of the Kasha-Katuwe Tent Rocks National Monument has been a focal point for visitors for centuries. Human settlement is believed to have begun in the monument as a series of campsites during the Archaic period, from approximately 5500 B.C. During the fifteenth century, several large ancestral pueblos were established in the area. Their descendants, the Pueblo de Cochiti, still inhabit the surrounding area. Although the Spanish explorer Don Juan de Oñate reached the Pajarito Plateau in 1598, it was not until the late eighteenth century that families began to claim land grants around Tent Rocks from the Spanish Crown. Remnants of human history are scattered throughout the monument.

Section 2 of the Act of June 8, 1906 (34 Stat. 225, 16 U.S.C. 431), authorizes the President, in his discretion, to declare by public proclamation historic landmarks, historic and prehistoric structures, and other objects of historic or scientific interest that are situated upon the lands owned or controlled by the Government of the United States to be national monuments, and to reserve as a part thereof parcels of land, the limits of which in all cases shall be confined to the smallest area compatible with the proper care and management of the objects to be protected.

WHEREAS it appears that it would be in the public interest to reserve such lands as a national monument to be known as the Kasha-Katuwe Tent Rocks National Monument:

NOW, THEREFORE, I, WILLIAM J. CLINTON, President of the United States of America, by the authority vested in me by section 2 of the Act of June 8, 1906 (34 Stat. 225, 16 U.S.C. 431), do proclaim that there are hereby set apart and reserved as the Kasha-Katuwe Tent Rocks National Monument, for the purpose of protecting the objects identified above, all lands and interests in lands owned or controlled by the United States within the boundaries of the area described on the map entitled “Kasha-Katuwe Tent Rocks National Monument” attached to and forming a part of this proclamation. The Federal land and interests in land reserved consist of approximately 4,148 acres, which is the smallest area compatible with the proper care and management of the objects to be protected.

All Federal lands and interests in lands within the boundaries of this monument are hereby appropriated and withdrawn from all forms of entry, location, selection, sale, or leasing or other disposition under the public land laws, including but not limited to withdrawal from location, entry, and patent under the mining laws, and from disposition under all laws relating to mineral and geothermal leasing, other than by exchange that furthers the protective purposes of the monument.

For the purpose of protecting the objects identified above, the Secretary shall prohibit all motorized and mechanized vehicle use off road, except for emergency or authorized administrative purposes.

Lands and interests in lands within the proposed monument not owned by the United States shall be reserved as a part of the monument upon acquisition of title thereto by the United States.

The Secretary of the Interior shall manage the monument through the Bureau of Land Management, pursuant to applicable legal authorities and in close cooperation with the Pueblo de Cochiti, to implement the purposes of this proclamation.

The Secretary of the Interior shall prepare, within 3 years of this date, a management plan for this monument, and shall promulgate such regulations for its management as he deems appropriate. The management plan shall include appropriate transportation planning that addresses the actions, including road closures or travel restrictions, necessary to protect the objects identified in this proclamation and to further the purposes of the American Indian Religious Freedom Act of August 11, 1978 (42 U.S.C. 1996).

Only a very small amount of livestock grazing occurs inside the monument. The Secretary of the Interior shall retire the portion of the grazing allotments within the monument, pursuant to applicable law, unless the Secretary specifically finds that livestock grazing will advance the purposes of the proclamation.

The establishment of this monument is subject to valid existing rights.

Nothing in this proclamation shall be deemed to enlarge or diminish the jurisdiction of the State of New Mexico with respect to fish and wildlife management.

This proclamation does not reserve water as a matter of Federal law. Nothing in this reservation shall be construed as a relinquishment or reduction of any water use or rights reserved or appropriated by the United States on or before the date of this proclamation. The Secretary shall work with appropriate State authorities to ensure that any water resources needed for monument purposes are available.

Nothing in this proclamation shall be deemed to revoke any existing withdrawal, reservation, or appropriation; however, the national monument shall be the dominant reservation.

Warning is hereby given to all unauthorized persons not to appropriate, injure, destroy, or remove any feature of this monument and not to locate or settle upon any of the lands thereof.

IN WITNESS WHEREOF, I have hereunto set my hand this seventeenth day of January, in the year of our Lord two thousand one, and of the Independence of the United States of America the two hundred and twenty-fifth.

Billing code 3195-01-P

[FR Doc. 01-2099

Filed 1-19-01; 8:45 am]

Billing code 3195-01-C